SECURITIES AND EXCHANGE COMMISSION

[Securities Exchange Act of 1934; Release No. 85227/March 1, 2019]

Notice of Intent To Cancel Registration of Certain Municipal Advisors Pursuant to Section 15b(C)(3) of the Securities Exchange Act of 1934

Notice is given that the Securities and Exchange Commission (the “Commission”) intends to issue an order or orders, pursuant to Section 15B(c)(3) of the Securities Exchange Act of 1934 (the “Act”), cancelling the registrations of municipal advisors whose names appear in the attached Appendix, herein referred to as the “registrants”.

Section 15B(c)(3) of the Act provides, in pertinent part, that if the Commission finds that any municipal advisor registered under Section 15B is no longer in existence or has ceased to do business as a municipal advisor, the Commission, by order, shall cancel the registration of such municipal advisor. The Commission finds that each registrant listed in the attached Appendix (i) has not made any municipal advisor form submissions to the Commission through the Commission's Electronic Data Gathering and Retrieval (“EDGAR”) system since 1/1/2016, and/or (ii) does not have an associated person, for whom there is a Form MA-I available on EDGAR, who is qualified, under Municipal Securities Rulemaking Board (MSRB) Rule G-3, to lawfully engage in municipal advisory activities. Accordingly, the Commission finds that each of the registrants listed in the attached Appendix is either (i) no longer in existence or (ii) has ceased to do business as a municipal advisor.

Notice is also given that any interested person may, by April 1, 2019, at 5:30 p.m. Eastern Time, submit to the Commission in writing a request for a hearing on the cancellation of the registration of any registrant listed in the attached Appendix, accompanied by a statement as to the nature of such person's interest, the reason for such person's request, and the issues, if any, of fact or law proposed to be controverted, and the writer may request to be notified if the Commission should order a hearing thereon. Any such communications should be addressed to the SEC's Secretary at the address below.

At any time after April 1, 2019, the Commission may issue an order or orders cancelling the registrations of any or all of the registrants listed in the attached Appendix, upon the basis of the information stated above, unless an order or orders for a hearing on the cancellation shall be issued upon request or upon the Commission's own motion. Persons who requested a hearing, or to be advised as to whether a hearing is ordered, will receive any notices and orders issued in this matter, including the date of the hearing (if ordered) and any postponements thereof. Any registrant whose registration is cancelled under delegated authority may appeal that decision directly to the Commission in accordance with Rules 430 and 431 of the Commission's rules of practice (17 CFR 201.430 and 431).

ADDRESSES: The Commission: Secretary, U.S. Securities and Exchange Commission, 100 F Street NE, Washington, DC 20549-1090.

FOR FURTHER INFORMATION CONTACT: Ahmed Abonamah, Senior Counsel to the Director, at 202-551-5680; U.S. Securities and Exchange Commission, Office of Municipal Securities, 100 F Street NE, Washington, DC 20549.

For the Commission, by the Office of Municipal Securities, pursuant to delegated authority.¹
¹ 17 CFR 200.30-3a(a)(1)(ii).
Eduardo A. Aleman,
Deputy Secretary.

Appendix

SEC ID No. | Full legal name
867-01224 | Aureus Partners, Inc.
867-01674 | BBC Consulting LLC.
867-01163 | Benecke Robert.
867-01889 | BRANDYWINE INVESTMENT SECURITIES, LLC.
867-01050 | Braun Research Consulting, LLC.
867-01722 | DENNING & COMPANY LLC.
867-00750 | Evergreen Capital Advisors, Inc.
867-00802 | Financial Consulting Solutions Group, Inc.
867-01653 | Frontera Consultants RGV, LLC.
867-01695 | HARRISON SECURITIES INC/BD.
867-01696 | Innovative Utility Solutions of Alabama LLC.
867-01862 | KSR Capital Advisors, Inc.
867-01640 | LEBENTHAL & CO., LLC.
867-01727 | Madrid Napoleon Roy.
867-00144 | Mission Management & Consultants LLC.
867-01246 | PHOENIX INFRASTRUCTURE ADVISORY GROUP, LLC.
867-00531 | PK SECURITIES, INC.
867-01824 | PlanScape, Inc.
867-00847 | Providence Financial Co., LLC.
867-00680 | Public Advisory Corp.
867-00427 | Rognan & Associates.
867-00769 | Stellate Partners LLC.
867-01005 | Stoughton Consulting LLC.
867-01545 | Tax Credit Management Inc.
867-00030 | Ward Group LLC.

[FR Doc. 2019-04079 Filed 3-6-19; 8:45 am]

BILLING CODE 8011-01-P